DEPARTMENT OF THE TREASURY

Internal Revenue Service

26 CFR Part 1

[TD 9408]

RIN 1545-BD01

Dependent Child of Divorced or Separated Parents or Parents Who Live Apart; Correction

AGENCY: Internal Revenue Service (IRS), Treasury.

ACTION: Final regulations; correction.

SUMMARY: This document contains corrections to final regulations (TD 9408) that were published in the Federal Register on Wednesday, July 2, 2008 (73 FR 37797), relating to a claim that a child is a dependent by parents who are divorced, legally separated under a decree of separate maintenance, or separated under a written separation agreement, or who live apart at all times during the last 6 months of the calendar year.

DATES: This correction is effective July 24, 2008, and is applicable to taxable years beginning after July 2, 2008.

FOR FURTHER INFORMATION CONTACT: Victoria Driscoll, (202) 622-4920 (not a toll-free number).

SUPPLEMENTARY INFORMATION:

Background

The final regulations that are the subject of this document are under section 152 of the Internal Revenue Code.

Need for Correction

As published, final regulations (TD 9408) contain errors that may prove to be misleading and are in need of clarification.

Correction of Publication

Accordingly, the publication of the final regulations (TD 9408), which were the subject of FR Doc. E8-15044, is corrected as follows:

1. On page 37798, column 2, in the preamble, under the paragraph heading “a. Custodial Parent's Failure To Release Exemption”, first paragraph, lines 8 thru 11, the language “6 months of the taxable year, (2) the child was in the custody of one or both parents for more than one-half of the taxable year, and (3) the child received” is corrected to read “6 months of the calendar year, (2) the child was in the custody of one or both parents for more than one-half of the calendar year, and (3) the child received”.

2. On page 37798, column 3, in the preamble, under the paragraph heading “a. Custodial Parent's Failure To Release Exemption”, first paragraph of the column, line 4, the language “6 months of the taxable year, (2) the” is corrected to read “6 months of the calendar year, (2) the”.

LaNita Van Dyke,
Chief, Publications and Regulations Branch, Legal Processing Division, Associate Chief Counsel (Procedure and Administration).

[FR Doc. E8-16921 Filed 7-23-08; 8:45 am]

BILLING CODE 4830-01-P